DEPARTMENT OF TRANSPORTATION

Federal Aviation Administration

14 CFR Part 39

[Docket No. FAA-2012-0497; Directorate Identifier 2011-NM-140-AD]

RIN 2120-AA64

Airworthiness Directives; The Boeing Company Airplanes

AGENCY: Federal Aviation Administration (FAA), DOT.

ACTION: Notice of proposed rulemaking (NPRM).

SUMMARY: We propose to supersede an existing airworthiness directive (AD) that applies to certain The Boeing Company Model 777-200, -200LR, -300, and -300ER series airplanes. The existing AD currently requires inspecting for scribe lines in the skin along lap joints, butt joints, certain external doublers, and the large cargo door hinges, and related investigative and corrective actions if necessary. Since we issued that AD, we have determined that scribe lines could occur where external decals are installed or removed across lap joints, large cargo door hinges, or external doublers. This proposed AD would add inspecting for scribe lines where external decals have been applied or removed across lap joints, large cargo door hinges, and external doublers, and related investigative and corrective actions if necessary. We are proposing this AD to detect and correct scribe lines which can develop into fatigue cracks in the skin. Undetected fatigue cracks can grow and cause sudden decompression of the airplane.

DATES: We must receive comments on this proposed AD by July 16, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this proposed AD, contact Boeing Commercial Airplanes, Attention: Data & Services Management, P.O. Box 3707, MC 2H-65, Seattle, Washington 98124-2207; phone: 206-544-5000, extension 1; fax: 206-766-5680; email: me.boecom@boeing.com; Internet: https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Berhane Alazar, Aerospace Engineer, Airframe Branch, ANM-120S, FAA, Seattle Aircraft Certification Office (ACO), 1601 Lind Avenue SW., Renton, Washington 98057-3356; phone: 425-917-6577; fax: 425-917-6590; email: Berhane.Alazar@faa.gov.

SUPPLEMENTARY INFORMATION:

Comments Invited

We invite you to send any written relevant data, views, or arguments about this proposed AD. Send your comments to an address listed under the ADDRESSES section. Include “Docket No. FAA-2012-0497; Directorate Identifier 2011-NM-140-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On November 12, 2009, we issued AD 2009-24-08, Amendment 39-16096 (74 FR 62217, November 27, 2009), for certain Model 777-200, -200LR, -300, and -300ER series airplanes. That AD requires inspections for scribe lines in the skin along lap joints, butt joints, certain external doublers, and the large cargo door hinges, and related investigative and corrective actions if necessary. That AD resulted from reports of scribe lines found at lap joints and butt joints, around external doublers, and at locations where external decals had been removed. We issued that AD to detect and correct scribe lines, which can develop into fatigue cracks in the skin. Undetected fatigue cracks can grow and cause sudden decompression of the airplane.

Actions Since Existing AD 2009-24-08, Amendment 39-16096 (74 FR 62217, November 27, 2009) Was Issued

Since we issued AD 2009-24-08, Amendment 39-16096 (74 FR 62217, November 27, 2009), we have determined that scribe lines could occur where external decals are installed or removed across lap joints, large cargo door hinges, and external doublers. AD 2009-24-08 had exempted those areas from the required inspections. Those areas need to be inspected in order to address the identified unsafe condition.

Relevant Service Information

We reviewed Boeing Service Bulletin 777-53A0054, Revision 1, dated November 4, 2010. We referred to Boeing Alert Service Bulletin 777-53A0054, dated August 7, 2008, as the appropriate source of service information for accomplishing the required actions of AD 2009-24-08, Amendment 39-16096 (74 FR 62217, November 27, 2009). Boeing Service Bulletin 777-53A0054, Revision 1, dated November 4, 2010, describes an additional inspection to determine where external decals have been applied or removed across lap joints, large cargo door hinges, and external doublers on airplanes and areas that were previously determined to not require inspections as specified by the original issue of this service information (because the airplane had never been stripped or repainted). Where external decals have been applied or removed, Boeing Service Bulletin 777-53A0054, Revision 1, dated November 4, 2010, describes inspecting for scribe lines, and related investigative and corrective actions previously specified in the original issue of this service information.

FAA's Determination

We are proposing this AD because we evaluated all the relevant information and determined the unsafe condition described previously is likely to exist or develop in other products of the same type design.

Proposed AD Requirements

This proposed AD would retain all requirements of AD 2009-24-08, Amendment 39-16096 (74 FR 62217, November 27, 2009). This proposed AD would add an inspection to determine where external decals have been applied or removed across affected lap joints, large cargo door hinges, and external doublers. For locations where the inspections determine that external decals have been applied or removed, this proposed AD would require inspecting for scribe lines, and related investigative and corrective actions as described in AD 2009-24-08.

Differences Between the Proposed AD and the Service Information

Where Boeing Service Bulletin 777-53A0054, Revision 1, dated November 4, 2010, specifies contacting the manufacturer for instructions on how to repair certain conditions, this proposed AD would require repairing those conditions in one of the following ways:

• Using a method that we approve; or

• Using data that meet the certification basis of the airplane, and that have been approved by an Authorized Representative for The Boeing Commercial Airplanes Organization Designation Authorization (ODA) whom we have authorized to make those findings.

Boeing Service Bulletin 777-53A0054, Revision 1, dated November 4, 2010, does not specify a compliance time for doing the Part 11 actions of the Accomplishment Instructions. This proposed AD would require doing the Part 11 actions within 24 months after the effective date of the AD.

Costs of Compliance

We estimate that this proposed AD affects 163 airplanes of U.S. registry.

We estimate the following costs to comply with this proposed AD:

Estimated Costs
Action | Labor cost | Parts cost | Cost per product | Cost on U.S. operators
Exploratory inspection [retained action from AD 2009-24-08, Amendment 39-16096 (74 FR 62217, November 27, 2009)] | Up to 1,234 work-hours × $85 per hour = $104,890 | $0 | Up to $104,890 | Up to $17,097,070.
Inspection for decals [new proposed action] | Up to 4 work-hours × $85 per hour = $340 | 0 | Up to $340 | Up to $55,420.

We have received no definitive data that would enable us to provide cost estimates for the on-condition actions specified in this proposed AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2009-24-08, Amendment 39-16096 (74 FR 62217, November 27, 2009), and adding the following new AD:

The Boeing Company:

Docket No. FAA-2012-0497; Directorate Identifier 2011-NM-140-AD.

(a) Comments Due Date

The FAA must receive comments on this AD action by July 16, 2012.

(b) Affected ADs

This AD supersedes AD 2009-24-08, Amendment 39-16096 (74 FR 62217, November 27, 2009).

(c) Applicability

This AD applies to The Boeing Company Model 777-200, -200LR, -300, and -300ER series airplanes; certificated in any category; as identified in Boeing Service Bulletin 777-53A0054, Revision 1, dated November 4, 2010.

(d) Subject

Joint Aircraft System Component (JASC)/Air Transport Association (ATA) of America Code 53, Fuselage.

(e) Unsafe Condition

This AD was prompted by reports of scribe lines found at lap joints and butt joints, around external doublers, at locations where external decals had been cut, and at locations where external decals have been installed or removed. We are issuing this AD to detect and correct scribe lines which can develop into fatigue cracks in the skin. Undetected fatigue cracks can grow and cause sudden decompression of the airplane.

(f) Compliance

Comply with this AD within the compliance times specified, unless already done.

(g) Retained Inspection With New Service Information and Additional Reporting

This paragraph restates the requirements of paragraph (g) of AD 2009-24-08, Amendment 39-16096 (74 FR 62217, November 27, 2009), with new service information and additional reporting. At the applicable times specified in paragraph 1.E., “Compliance,” of Boeing Alert Service Bulletin 777-53A0054, dated August 7, 2008, except as provided in paragraphs (h) and (j) of this AD: Do detailed exploratory inspections for scribe lines in the skin along lap joints, butt joints, certain external doublers, and the large cargo door hinges. Do all applicable related investigative and corrective actions at the times specified in Boeing Alert Service Bulletin 777-53A0054, dated August 7, 2008, by accomplishing all actions specified in the Accomplishment Instructions of Boeing Alert Service Bulletin 777-53A0054, dated August 7, 2008; or Boeing Service Bulletin 777-53A0054, Revision 1, dated November 4, 2010; except as provided by paragraph (i) of this AD. As of the effective date of this AD, use only Boeing Service Bulletin 777-53A0054, Revision 1, dated November 4, 2010, to do the actions required by this paragraph.

Note 1 to paragraph (g) of this AD: The inspection exceptions described in NOTES 1.-5. in Paragraph 1.E., “Compliance,” of Boeing Alert Service Bulletin 777-53A0054, dated August 7, 2008, apply to paragraph (g) of this AD.

(h) Retained Exception to Service Bulletin Specifications, Compliance Time

This paragraph restates the requirements of paragraph (h) of AD 2009-24-08, Amendment 39-16096 (74 FR 62217, November 27, 2009). Where Boeing Alert Service Bulletin 777-53A0054, dated August 7, 2008, specifies a compliance time after the date on that service bulletin, paragraph (g) of this AD requires compliance within the specified compliance time after January 4, 2010 (the effective date of AD 2009-24-08).

(i) Retained Exception to Service Bulletin Specifications, Contact for Appropriate Action With New Service Information

This paragraph restates the requirements of paragraph (i) of AD 2009-24-08, Amendment 39-16096 (74 FR 62217, November 27, 2009), with new service information. Where Boeing Alert Service Bulletin 777-53A0054, dated August 7, 2008; and Boeing Service Bulletin 777-53A0054, Revision 1, dated November 4, 2010; specify to contact Boeing for appropriate action, accomplish applicable actions using a method approved in accordance with the procedures specified in paragraph (q) of this AD.

(j) Retained Exception to Service Bulletin Specifications, Contact for Inspection Requirements

This paragraph restates the requirements of paragraph (j) of AD 2009-24-08, Amendment 39-16096 (74 FR 62217, November 27, 2009). Where paragraph 1.E. “Compliance,” of Boeing Alert Service Bulletin 777-53A0054, dated August 7, 2008, specifies to “contact Boeing for inspection requirements for operation beyond 60,000 total flight-cycles after first repaint,” for those airplanes, this AD requires contacting the Manager, Seattle Aircraft Certification Office (ACO), for all inspection requirements of this AD and doing the requirements.

(k) Retained Reporting

This paragraph restates the requirements of paragraph (k) of AD 2009-24-08, Amendment 39-16096 (74 FR 62217, November 27, 2009). At the applicable time specified in paragraph (k)(1) or (k)(2) of this AD: Submit a report of positive findings of cracks found during the inspection required by paragraphs (g) and (m) of this AD to the Boeing Commercial Airplane Group, P.O. Box 3707, Seattle, Washington 98124-2207. Alternatively, operators may submit reports to their Boeing field service representatives. The report must contain, at a minimum, the inspection results, a description of any discrepancies found, the airplane serial number, and the number of flight cycles and flight hours on the airplane. Under the provisions of the Paperwork Reduction Act (44 U.S.C. 3501 et seq.), the Office of Management and Budget (OMB) has approved the information collection requirements contained in this AD and has assigned OMB Control Number 2120-0056.

(1) If the inspection was done on or after the effective date of this AD: Submit the report within 30 days after the inspection.

(2) If the inspection was done before the effective date of this AD: Submit the report within 30 days after the effective date of this AD.

(l) New Inspection for External Decals

Within 24 months after the effective date of this AD: Inspect to determine the locations where external decals have been applied or removed across affected lap joints, large cargo door hinges, and external doublers, in accordance with the Accomplishment Instructions of Boeing Service Bulletin 777-53A0054, Revision 1, dated November 4, 2010.

(m) New Inspection for Scribe Lines and Related Investigative and Corrective Actions

If, during the inspection required by paragraph (l) of this AD, any location is found where external decals have been applied or removed across lap joints, large cargo door hinges, or external doublers: Before further flight, do a detailed exploratory inspection for scribe lines at all affected locations, in accordance with the Accomplishment Instructions of Boeing Service Bulletin 777-53A0054, Revision 1, dated November 4, 2010. Do all applicable related investigative and corrective actions at the times specified in Boeing Service Bulletin 777-53A0054, Revision 1, dated November 4, 2010, by accomplishing all actions specified in the Accomplishment Instructions of Boeing Service Bulletin 777-53A0054, Revision 1, dated November 4, 2010, except as provided by paragraph (i) of this AD.

(n) Exceptions to Service Information

(1) Where Boeing Service Bulletin 777-53A0054, Revision 1, dated November 4, 2010, specifies a compliance time after the date on that service bulletin, paragraphs (l) and (m) of this AD require compliance within the specified compliance time after the effective date of this AD.

(2) Where paragraph 1.E., “Compliance,” of Boeing Service Bulletin 777-53A0054, Revision 1, dated November 4, 2010, specifies to “contact Boeing for inspection requirements for operation beyond 60,000 total flight-cycles after first repaint,” for those airplanes, this AD requires contacting the Manager, Seattle ACO, for all inspection requirements of this AD and doing the requirements.

(o) Credit for Previous Actions

This paragraph provides credit for the actions required by paragraph (m) of this AD, if those actions were performed before the effective date of this AD using Boeing Alert Service Bulletin 777-53A0054, dated August 7, 2008.

(p) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(q) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO to make those findings. For a repair method to be approved, the repair must meet the certification basis of the airplane, and the approval must specifically refer to this AD.

(4) AMOCs approved for AD 2009-24-08, Amendment 39-16096 (74 FR 62217, November 27, 2009), are approved as AMOCs for the corresponding provisions of this AD, except that AMOCs approved for AD 2009-24-08 are not approved for fuselage areas where any decals may have been installed or removed on airplanes that have never been stripped or repainted since they left the factory.

(r) Related Information

(1) For more information about this AD, contact Berhane Alazar, Aerospace Engineer, Airframe Branch, ANM-120S, FAA, Seattle ACO, 1601 Lind Avenue SW., Renton, Washington 98057-3356; phone: 425-917-6577; fax: 425-917-6590; email: Berhane.Alazar@faa.gov.

(2) For service information identified in this AD, contact Boeing Commercial Airplanes, Attention: Data & Services Management, P.O. Box 3707, MC 2H-65, Seattle, Washington 98124-2207; phone: 206-544-5000, extension 1; fax: 206-766-5680; email: me.boecom@boeing.com; Internet: https://www.myboeingfleet.com. You may review copies of the referenced service information at the FAA, Transport Airplane Directorate, 1601 Lind Avenue SW., Renton, Washington. For information on the availability of this material at the FAA, call 425-227-1221.

Issued in Renton, Washington, on May 21, 2012.
Michael Kaszycki,
Acting Manager, Transport Airplane Directorate, Aircraft Certification Service.

[FR Doc. 2012-13169 Filed 5-30-12; 8:45 am]

BILLING CODE 4910-13-P